DEPARTMENT OF ENERGY

10 CFR Part 431

[Docket No. EERE-2008-BT-STD-0015]

RIN 1904-AB86

Energy Conservation Program: Re-Opening of the Public Comment Period for Walk-In Coolers and Walk-in Freezers

AGENCY: Office of Energy Efficiency and Renewable Energy, Department of Energy.

ACTION: Proposed Rule: re-opening of public comment period.

SUMMARY: On April 5, 2010, the U. S. Department of Energy (DOE) published a Notice of Public Meeting (NOPM) in the Federal Register to announce the availability of the technical support document for walk-in coolers and freezers and a public meeting on May 14, 2010. On April 14, 2010, DOE published a correction notice to change the date of the public meeting to May 19, 2010 and extend the deadline for the submission of comments to May 28, 2010. This document announces that the period for submitting comments on the preliminary technical support document for walk-in coolers and walk-in freezers is to be re-opened from July 15, 2010 to July 30, 2010.

DATES: DOE will accept comments, data, and information regarding the preliminary technical support document for walk-in coolers and walk-in freezers received between July 15, 2010 and July 30, 2010

ADDRESSES: Any comments submitted must identify the preliminary analysis for walk-in coolers and walk-in freezers, and provide docket number EERE-2008-BT-STD-0015 and/or RIN number 1904-AB86. Comments may be submitted using any of the following methods:

• Federal eRulemaking Portal: http://www.regulations.gov. Follow the instructions for submitting comments.

• E-mail: WICF-2008-STD-0015@ee.doe.gov. Include docket number EERE-2008-BT-STD-0015 and/or RIN 1904-AB86 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC, 20024, (202) 586-2945, between 9 a.m. and 4 p.m. Monday through Friday, except Federal holidays. Please call Ms. Brenda Edwards at the above telephone number for additional information regarding visiting the Resource Room. Please note: DOE's Freedom of Information Reading Room (Room 1E-190 at the Forrestal Building) no longer houses rulemaking materials.

FOR FURTHER INFORMATION CONTACT: Mr. Charles Llenza, U.S. Department of Energy, Office of Energy Efficiency and Renewable Energy, Building Technologies, EE-2J, 1000 Independence Avenue, SW, Washington, DC 20585-0121, (202) 586-2192. E-mail: Charles.Llenza@ee.doe.gov.

Mr. Michael Kido, U.S. Department of Energy, Office of General Counsel, GC-71, 1000 Independence Avenue, SW., Washington, DC 20585-0121, (202) 586-8145, Michael.Kido@hq.doe.gov; or Ms. Elizabeth Kohl, U.S. Department of Energy, Office of General Counsel, GC-71, 1000 Independence Avenue, SW., Washington, DC 20585-0121, (202) 586-7796, Elizabeth.Kohl@hq.doe.gov.

SUPPLEMENTARY INFORMATION: On April 5, 2010, DOE published a NOPM in the Federal Register to announce the availability of the technical support document for walk-in coolers and freezers and a public meeting on May 14, 2010. 75 FR 17080. On April 14, 2010, DOE published a correction notice to change the date of the public meeting to May 19, 2010 and extend the deadline for the submission of comments to May 28, 2010. 75 FR 19297. Comments were accepted through May 28, 2010 and were also accepted at the public meeting held on May 19, 2010. At the public meeting, DOE received a request to further extend the comment period to allow for the consideration of issues discussed at the public meeting. DOE has determined that an extension of the public comment period is appropriate as a result of this request and is hereby re-opening the comment period. DOE will consider any comments received between July 15, 2010 and July 30, 2010 and deems any comments received between publication of the NOPM on April 5, 2010 and July 30, 2010 to be timely submitted.

Further Information on Submitting Comments

Under Title 10 of the Code of Federal Regulations 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) A description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on July 8, 2010.
Cathy Zoi,
Assistant Secretary, Energy Efficiency and Renewable Energy.

[FR Doc. 2010-17214 Filed 7-14-10; 8:45 am]

BILLING CODE 6450-01-P